DEPARTMENT OF THE INTERIOR

National Park Service

[N6825; NPS-WASO-NAGPRA-NPS0041686; PPWOCRADN0-PCU00RP14.R50000]

Notice of Inventory Completion Amendment: S'edav Va'aki Museum, City of Phoenix, Phoenix, AZ

AGENCY: National Park Service, Interior.

ACTION: Notice; amendment.

SUMMARY: In accordance with the Native American Graves Protection and Repatriation Act (NAGPRA), the S'edav Va'aki Museum (formerly Pueblo Grande Museum), City of Phoenix has amended a notice of inventory completion published in the Federal Register on February 8, 2019. This notice amends the Indian Tribes or Native Hawaiian organizations with cultural affiliation.

DATES: Repatriation of the human remains and associated funerary objects may occur on or after February 6, 2026.

ADDRESSES: Send written requests for repatriation of the human remains and associated funerary objects to Lindsey Vogel-Teeter, S'edav Va'aki Museum, 4619 East Washington Street, Phoenix, AZ 85034, email lindsey.vogel-teeter@phoenix.gov.

SUPPLEMENTARY INFORMATION: This notice is published as part of the National Park Service's administrative responsibilities under NAGPRA. The determinations in this notice are the sole responsibility of the S'edav Va'aki Museum, City of Phoenix, and additional information on the determinations in this notice, including the results of consultation, can be found in its inventory or related records. The National Park Service is not responsible for the determinations in this notice.

Amendment

This notice amends the determination of cultural affiliation published in a notice of inventory completion in the Federal Register (84 FR 2924, February 8, 2019). Repatriation of the human remains and associated funerary objects in the original notice of inventory completion has not occurred.

Determinations

The S'edav Va'aki Museum has determined that:

• There is a connection between the human remains and associated funerary objects described in the original notice and the Ak-Chin Indian Community; Gila River Indian Community of the Gila River Indian Reservation, Arizona; Hopi Tribe of Arizona; Pueblo of Acoma, New Mexico; Salt River Pima-Maricopa Indian Community of the Salt River Reservation, Arizona; Tohono O'Odham Nation of Arizona; and the Zuni Tribe of the Zuni Reservation, New Mexico.

Requests for Repatriation

Written requests for repatriation of the human remains and associated funerary objects in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in the original notice to a requestor may occur on or after February 6, 2026. If competing requests for repatriation are received, the S'edav Va'aki Museum, City of Phoenix must determine the most appropriate requestor prior to repatriation. Requests for joint repatriation of the human remains and associated funerary objects are considered a single request and not competing requests. The S'edav Va'aki Museum, City of Phoenix is responsible for sending a copy of this notice to the Indian Tribes and Native Hawaiian organizations identified in this notice.

Authority: Native American Graves Protection and Repatriation Act, 25 U.S.C. 3003, and the implementing regulations, 43 CFR 10.10.

Dated: December 18, 2025.
Melanie O'Brien,
Manager, National NAGPRA Program.

[FR Doc. 2026-00056 Filed 1-6-26; 8:45 am]

BILLING CODE 4312-52-P